DEPARTMENT OF TRANSPORTATION

Federal Aviation Administration

14 CFR Part 39

[Docket No. 2002-SW-01-AD]

RIN 2120-AA64

Airworthiness Directives; Bell Helicopter Textron, A Division of Textron Canada Model 206A, 206A-1, 206B, 206B-1, 206L, 206L-1, 206L-3, and 206L-4 Helicopters

AGENCY: Federal Aviation Administration, DOT.

ACTION: Notice of proposed rulemaking (NPRM).

SUMMARY: This document proposes adopting a new airworthiness directive (AD) for Bell Helicopter Textron, A Division of Textron Canada (BHT) Model 206A, 206A-1, 206B, 206B-1, 206L, 206L-1, 206L-3, and 206L-4 helicopters. This proposal would require performing a continuity test, and repairing temporarily any unairworthy chip detector, and replacing any repaired chip detectors. This proposal is prompted by reports of poor or no continuity between the insert and the chip detector housing on certain chip detectors. The actions specified by this proposed AD are intended to prevent failure of a chip detector indication, loss of a critical component, and subsequent loss of control of the helicopter.

DATES: Comments must be received on or before December 20, 2002.

ADDRESSES: Submit comments in triplicate to the Federal Aviation Administration (FAA), Office of the Regional Counsel, Southwest Region, Attention: Rules Docket No. 2002-SW-01-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jorge Castillo, Aviation Safety Engineer, FAA, Rotorcraft Directorate, Rotorcraft Standards Staff, Fort Worth, Texas 76193-0110, telephone (817) 222-5127, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2002-SW-01-AD.” The postcard will be date stamped and returned to the commenter.

Discussion

Transport Canada, the airworthiness authority for Canada, notified the FAA that an unsafe condition may exist on BHT Model 206A, 206A-1, 206B, 206B-1, 206L, 206L-1, 206L-3, and 206L-4 helicopters. Transport Canada advises that Tedeco B3188B and B4093 chip detectors could possibly have poor or no continuity between the insert and the chip detector housing. This could result in no chip indication when the chip detector has been bridged by metal particles.

Bell Helicopter Textron has issued Alert Service Bulletin No. 206-01-96, Revision A, and No. 206L-01-119, Revision A, both dated May 7, 2001, which specify accomplishing the Eaton Tedeco Product Bulletins attached to their Alert Service Bulletin. The Eaton Tedeco Product Bulletins contain procedures for performing a continuity test and repair of chip detectors and replacing repaired chip detectors. Transport Canada classified these alert service bulletins as mandatory and issued AD No. CF-2001-33, dated August 24, 2001, to ensure the continued airworthiness of these helicopters in Canada.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

This unsafe condition is likely to exist or develop on other helicopters of the same type designs registered in the United States. Therefore, the proposed AD would require performing a continuity test, repairing the chip detectors, and replacing repaired chip detectors. The actions would be required to be accomplished in accordance with the alert service bulletins and attached technical bulletin described previously. Repairing the chip detectors is intended to serve as an interim action until the repaired chip detectors are replaced.

The FAA estimates that 2,262 helicopters of U.S. registry would be affected by this proposed AD, that it would take approximately 0.5 work hours per helicopter to initially inspect the chip detectors, and 0.5 work hours per helicopter to repair and ultimately replace any chip detectors that were previously temporarily repaired, and that the average labor rate is $60 per work hour. Cost of the chip detector is estimated to be $75. Based on these figures, the total cost impact of the proposed AD on U.S. operators is estimated to be $186,615, assuming half of the fleet will require repairing and replacing the chip detectors. The chip detector manufacturer has stated that it may provide reworked or replacement parts at no charge at its discretion.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron, A Division of Textron Canada: Docket No. 2002-SW-01-AD.

Applicability: Model 206A, 206A-1, 206B, 206B-1, 206L, 206L-1, 206L-3, and 206L-4 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent failure of a chip detector indication, loss of a critical component, and subsequent loss of control of the helicopter, accomplish the following:

(a) For Model 206A, 206A-1, 206B, and 206B-1 helicopters, within 60 days, perform a continuity test and repair the Eaton Tedeco chip detector (chip detector), part number (P/N) B3188B, installed in the transmission bottom case, in accordance with the “Test Procedure”, Procedure B, and the “Repair Instructions” portions of the Tedeco Products Alert Service attached to Bell Helicopter Textron (BHT) Alert Service Bulletin (ASB) No. 206-01-96, Revision A, dated May 7, 2001.

(b) For 206L, 206L-1, 206L-3, and 206L-4 helicopters:

(1) Within 60 days, perform a continuity test on, and also repair, the chip detector, P/N B3188B, installed in the transmission bottom case found on transmission assemblies, P/N 206-040-004-003, 206-040-004-005, 206-040-004-101, 206-040-004-107, 206-040-004-111, or 206-040-004-115, in accordance with the “Test Procedure”, Procedure B, and the “Repair Instructions” portions of the Tedeco Products Alert Service Bulletin for affected P/N B3188B chip detectors, attached to BHT ASB No. 206L-01-119, Revision A, dated May 7, 2001.

(2) Within 60 days, perform a continuity test and repair the chip detector, P/N B4093, installed in the transmission top case found on transmission assemblies, P/N 206-040-004-003, 206-040-004-005, 206-040-004-101, or 206-040-004-111, in accordance with the “Test Procedure”, Procedure B, and the “Repair Instructions” portion of the Tedeco Products Alert Service Bulletin for the affected P/N B4093 chip detectors, attached to BHT ASB No. 206L-01-119, Revision A, dated May 7, 2001.

(c) Within 300 hours time-in-service (TIS) after any chip detector is repaired, replace the chip detector with a reworked or new production airworthy chip detector.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Office.

(e) Special flight permits will not be issued.

Note 3: The subject of this AD is addressed in Transport Canada (Canada) AD No. CF-2001-33, dated August 24, 2001.

Issued in Fort Worth, Texas, on October 10, 2002.
Larry M. Kelly,
Acting Manager, Rotorcraft Directorate, Aircraft Certification Service.

[FR Doc. 02-26666 Filed 10-18-02; 8:45 am]

BILLING CODE 4910-13-P